DEPARTMENT OF COMMERCE

National Oceanic and Atmospheric Administration

Proposed Information Collection; Comment Request; West Coast Region, Pacific Coast Groundfish Fishery: Trawl Rationalization Cost Recovery Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 29, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Christopher Biegel, (503) 231-6291 or christopher.biegel@noaa.gov.

SUPPLEMENTARY INFORMATION:

I. Abstract

This request is for an extension of a currently approved information collection.

The Magnuson-Stevens Fishery Conservation and Management Act requires that the Secretary of Commerce maintain a cost recovery program to cover part of the management, data collection, and enforcement costs of the limited access privilege programs, such as the Pacific coast groundfish fishery's trawl rationalization program. This cost recovery program requires fish sellers to submit fees to fish buyers who then submit those fees to the National Marine Fisheries Service (NMFS) and include information about the volume and value of groundfish. Information is collected from monthly and annual reports as well as non-payment documents when necessary.

This program is authorized under the Pacific coast groundfish fishery regulations, trawl rationalization cost recovery program at 50 CFR 660.115.

II. Method of Collection

Most information is submitted electronically through the Federal web portal Pay.gov, though some may be submitted by mail or email.

III. Data

OMB Control Number: 0648-0663.

Form Number(s): None.

Type of Review: Regular submission (extension of a current information collection).

Affected Public: Business or other for-profit organizations.

Estimated Number of Respondents: 116.

Estimated Time per Response: Cost recovery forms: 1 hour; Failure to pay report: 4 hours; Annual report: 1 hour.

Estimated Total Annual Burden Hours: 1,304.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 23, 2016.
Sarah Brabson,
NOAA PRA Clearance Officer.

[FR Doc. 2016-15216 Filed 6-27-16; 8:45 am]

BILLING CODE 3510-22-P